ENVIRONMENTAL PROTECTION AGENCY

[EPA-HQ-OW-2011-0443; FRL 9513-3]

Agency Information Collection Activities; Submission to OMB for Review and Approval; Comment Request; Public Water System Supervision Program (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 12, 2012.

ADDRESSES: Submit your comments, referencing Docket ID No. EPA-HQ-OW-2011-0443, to (1) EPA online using www.regulations.gov (our preferred method), by email to ow-docket@epa.gov, or by mail to: EPA Docket Center, Environmental Protection Agency, Mail Code: 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Matthew Reed, Drinking Water Protection Division, Office of Ground Water and Drinking Water, (4606M), Environmental Protection Agency, 1200 Pennsylvania Ave. NW., Washington, DC 20460; telephone number: 202-564-4719; email address: reed.matthew@epa.gov.

SUPPLEMENTARY INFORMATION: EPA has submitted the following ICR to OMB for review and approval according to the procedures prescribed in 5 CFR 1320.12. On July 5, 2011 (76 FR 39092), EPA sought comments on this ICR pursuant to 5 CFR 1320.8(d). EPA received no comments during the comment period. Any comments on this ICR should be submitted to EPA and OMB within 30 days of this notice.

EPA has established a public docket for this ICR under Docket ID No. EPA-HQ-OW-2011-0443, which is available for online viewing at www.regulations.gov, or in person viewing at the Water Docket in the EPA Docket Center (EPA/DC), EPA West, Room 3334, 1301 Constitution Ave. NW., Washington, DC. The EPA/DC Public Reading Room is open from 8:30 a.m. to 4:30 p.m., Monday through Friday, excluding legal holidays. The telephone number for the Reading Room is 202-566-1744, and the telephone number for the Water Docket is 202-566-2426.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Public Water System Supervision Program (Renewal)

ICR numbers: EPA ICR No. 0270.45, OMB Control No. 2040-0090

ICR Status: This ICR is scheduled to expire on March 31, 2012. Under OMB regulations, the Agency may continue to conduct or sponsor the collection of information while this submission is pending at OMB. An Agency may not conduct or sponsor, and a person is not required to respond to, a collection of information, unless it displays a currently valid OMB control number. The OMB control numbers for EPA's regulations in title 40 of the Code of Federal Regulations, after appearing in the Federal Register when approved, are listed in 40 CFR part 9, are displayed either by publication in the Federal Register or by other appropriate means, such as on the related collection instrument or form, if applicable. The display of OMB control numbers in certain EPA regulations is consolidated in 40 CFR part 9.

Abstract: The Public Water System Supervision (PWSS) Program Renewal ICR examines public water system, primacy agency, EPA, and tribal operator certification provider burden and costs for “cross-cutting” recordkeeping and reporting requirements (i.e., the burden and costs for complying with drinking water information requirements that are not associated with contaminant-specific rulemakings). These activities which have record keeping and reporting requirements that are mandatory for compliance with 40 CFR parts 141 and 142 include the following: Consumer Confidence Reports (CCRs), Primacy Regulation Activities, Variance and Exemption Rule (V/E Rule), General State Primacy Activities, Public Notification (PN) and Proficiency Testing (PT) Studies for Drinking Water Laboratories. The information collection activities for both the Operator Certification/Expense Reimbursement Grant Program and the Capacity Development Program are driven by the grant withholding and reporting provisions under § 1419 and § 1420, respectively, of the Safe Drinking Water Act. Although the Tribal Operator Certification Program is voluntary, the information collection is driven by grant eligibility requirements outlined in the Drinking Water Infrastructure Grant Tribal Set-Aside Program Final Guidelines and the Tribal Drinking Water Operator Certification Program Guidelines.

Burden Statement: The annual public reporting and recordkeeping burden for this collection of information is estimated to average 4.06 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Owners/operators of public water systems who must report to the primacy agency. Primacy agencies, which include States, Tribes (if they have been authorized to act as primacy agencies), and EPA Regions that act as primacy agencies in Indian country and States that do not have primacy. Laboratories conducting PT to achieve state certification, which permits them to analyze samples for compliance with National Primary Drinking Water Regulations (NPDWRs). (PT vendors are not considered respondents because they are paid for their incurred burden and costs via the prices that laboratories pay for the PT standards.)

Estimated Number of Respondents: 154,938.

Frequency of Response: Varies by requirement (i.e., on occasion, monthly, quarterly, semi-annually, annually, biennially, and every 3, 6, and 9 years).

Estimated Total Annual Hour Burden: 4,113,408.

Estimated Total Annual Cost: $187,647,000, which includes $40,019,000 in capital and operating & maintenance (O&M) costs.

Changes in the Estimates: There is an increase of 199,864 hours in the total estimated burden currently identified in the OMB Inventory of Approved ICR Burdens. This increase is due primarily to consultations with respondents which yielded more accurate estimates of the burden for various activities. These were partially offset by burden decreases from a smaller respondent universe and reduced reporting due to a new enforcement tracking system and the discontinuation of a grant program.

John Moses,
Director, Collection Strategies Division.

[FR Doc. 2012-6007 Filed 3-12-12; 8:45 am]

BILLING CODE 6560-50-P